DEPARTMENT OF COMMERCE

National Institute of Standards and Technology

Prospective Grant of Exclusive Patent License; Tiger Optics, Inc.

AGENCY: National Institute of Standards and Technology Commerce.

ACTION: Notice of prospective grant of exclusive patent license.

SUMMARY: This is a notice in accordance with 35 USC 209(c)(1) and 37 CFR 404.7(a)(1)(i) that the National Institute of Standards and Technology (“NIST”), U.S. Department of Commerce, is contemplating the grant of an exclusive license in the United States of America, its territories, possessions and commonwealths, to NIST's interest in the invention embodied in U.S. Patent No. 5,835,231 (Application No. 08/962,171), titled “Broad Band Intro-Cavity Total Reflection Chemical Sensor,” filed October 31, 1997; NIST Docket No. 96-025US, Patent No. 5,986,768 (Application No. 08/962,171), titled, “Intra-Cavity Total Reflection For High Sensitivity Measurement Of Optical Properties,” filed October 31, 1997; NIST Docket No. 96-025CIP, and Patent No. 5,943,136 (Application No. 08/962,170), titled, “Intra-Cavity Total Reflection For High Sensitivity Measurement Of Optical Properties,” filed October 31, 1997; NIST Docket No. 96-012US, to Tiger Optics, Inc., having a place of business at 250 Titus Avenue, Warrington, PA 18976-2426. The grant of the license would be in the following fields of use: (1) Semiconductor, Compound Semiconductor, and Specialty/Electronic Chemicals Manufacturing; (2) Chemical and Petrochemical Processing and Manufacturing; and (3) Environmental Monitoring and Control (including detection of chemical and biological warfare agents).

FOR FURTHER INFORMATION CONTACT: J. Terry Lynch, National Institute of Standards and Technology, Office of Technology Partnerships, 100 Bureau Drive, Stop 2200, Gaithersburg, MD 20899, Phone 301-975-2691.

SUPPLEMENTARY INFORMATION: The prospective exclusive license will be royalty bearing and will comply with the terms and conditions of 35 USC 209 and 37 CFR 404.7. The prospective exclusive license may be granted unless, within thirty days from the date of this published Notice, NIST receives written evidence and argument which establish that the grant of the license would not be consistent with the requirements of 35 USC 209 and 37 CFR 404.7. The availability of the inventions for licensing was published in the Federal Register as follows:

NIST Docket No. 96-025US, Vol. 63, No. 96 (page 27564, May 19, 1998).

NIST Docket No. 96-025CIP, Vol. 64, No. 101 (page 28453, May 26, 1999).

NIST Docket No. 96-012US, Vol. 64, No. 101 (page 28453, May 26, 1999).

U.S. Patent No. 5,835,231 is owned by the U.S. government, as represented by the Secretary of Commerce. The present invention permits broadband, ultra-sensitive measurement of optical absorption for any state of matter by the cavity ring-down technique using a small, monolithic, total internal reflection ring cavity. It significantly advances the sensitivity, accuracy, and adaptability of optical absorption spectroscopy for decisive qualitative and quantitative chemical analysis, with greatly increased trace analysis capability.

U.S. Patent No. 5,986,768 is owned by the U.S. government, as represented by the Secretary of Commerce. An optical cavity resonator device is provided for conducting sensitive measurement of optical absorption by matter in any state with diffraction-limited spatial resolution through utilization of total internal reflection within a high-Q (high quality, low loss) optical cavity. Intracavity total reflection generates an evanescent wave that decays exponentially in space at a point external to the cavity, thereby providing a localized region where absorbing materials can be sensitively probed through alteration of the Q-factor of the otherwise isolated cavity. When a laser pulse is injected into the cavity and passes through the evanescent state, an amplitude loss resulting from absorption is incurred that reduces the lifetime of the pulse in the cavity. By monitoring the decay of the injected pulse, the absorption coefficient of manner within the evanescent wave region is accurately obtained from the decay time measurement.

U.S. Patent No. 5,943,136 is owned by the U.S. government, as represented by the Secretary of Commerce. The present invention relates to a device which permits the sensitive measurement of the optical absorption of matter in any state with diffraction-limited spatial resolution using total internal reflection within a high-Q (high-quality, low-loss) optical cavity. Its use provides qualitative and quantitative analysis of material composition and rates of chemical reactions. The device is especially well suited for thin film diagnostics.

Dated: March 18, 2002.
Karen H. Brown,
Deputy Director.

[FR Doc. 02-7188 Filed 3-25-02; 8:45 am]

BILLING CODE 3510-13-P